SMALL BUSINESS ADMINISTRATION

Region I Advisory Council Meeting; Public Meeting

The U.S. Small Business Administration Region I Advisory Council, located in the geographical area of Augusta, Maine will hold a public meeting at 4 p.m. on Tuesday, September 12th at the Caribou Hotel & Conference Center to discuss such matters as may be presented by members, staff of the U.S. Small Business Administration, or others present. For further information, write or call Mary McAleney, District Director, U.S. Small Business Administration, 40 Western Avenue, Augusta, Maine 04330, (207) 622-8378.

Bettie Baca,
Counselor to the Administrator/Public Liaison.

[FR Doc. 00-20870 Filed 8-16-00; 8:45 am]

BILLING CODE 8025-01-P